DEPARTMENT OF THE INTERIOR

Fish and Wildlife Service

[FWS-R4-ES-2012-N063; 40120-1112-0000-F2]

Final Environmental Impact Statement and Record of Decision for Alabama Beach Mouse General Conservation Plan for Incidental Take on the Fort Morgan Peninsula, Baldwin County, AL

AGENCY: Fish and Wildlife Service, Interior.

ACTION: Notice.

SUMMARY: The Fish and Wildlife Service (Service), announces the availability of a final environmental impact statement (EIS), which analyzes the environmental impacts associated with issuing, in accordance with the proposed General Conservation plan (GCP), incidental take permits requested under the Endangered Species Act of 1973 (Act), as amended, for take of Alabama beach mouse (Peromyscus polionotus ammobates). For record of decision (ROD) availability, see DATES.

DATES: The ROD will be available no sooner than April 27, 2012.

ADDRESSES: Documents and other information submitted with the applications are available for review, subject to the requirements of the Privacy Act and Freedom of Information Act, by any party who submits a written request for a copy of such documents to either of the following offices within 30 days of the date of publication of this notice: David Dell, U.S. Fish and Wildlife Service, 1875 Century Boulevard, Suite 200, Atlanta, GA 30345; or Field Supervisor, Fish and Wildlife Service, 1208-B Main Street, Daphne, AL 36526.

FOR FURTHER INFORMATION CONTACT: Mr. David Dell, Regional HCP Coordinator (See ADDRESSES), telephone: (404) 679-7313; or Ms. Shannon Holbrook, Field Office Project Manager, at the Daphne Field Office (See ADDRESSES), telephone: (251) 441-5871.

SUPPLEMENTARY INFORMATION: The Final EIS analyzes the consequences of the proposed action, take of the Alabama beach mouse incidental to construction of up to 500 single-family developments potentially affecting an estimated total of 75 acres of Alabama beach mouse habitat, and alternatives to the proposed action. Individual land owners who would need incidental take permits (ITP) for single-family developments, and whose development proposal fits within limits evaluated in the GCP, could apply for ITPs using the GCP provisions instead of producing their own habitat conservation plans. The GCP evaluates issuance of ITPs with up to 50-year terms under section 10(a)(1)(B) of the Act (16 U.S.C. 1531 et seq.). The GCP describes the mitigation and minimization measures proposed to address the effects on the species. On August 9, 2011, we published a notice of availability for a draft EIS (76 FR 48879) for a 90-day public comment period. For ROD availability, see DATES. The EIS analyzes the preferred alternative, as well as a full range of reasonable alternatives, and the associated impacts of each. Alternative 3 (Preferred Alternative) would implement the GCP as proposed.

Authority: The environmental review of this project is being conducted in accordance with the requirements of the National Environmental Policy Act of 1969 as amended (42 U.S.C. 4321 et seq.) and its implementing regulations (40 CFR parts 1500 through 1508), and with other appropriate Federal laws and regulations, policies, and procedures of the Service for compliance with those regulations.

Dated: February 17, 2012.
Mark J. Musaus,
Acting Regional Director.

[FR Doc. 2012-7370 Filed 3-27-12; 8:45 am]

BILLING CODE 4310-55-P